DEPARTMENT OF THE INTERIOR

Fish and Wildlife Service

Issuance of Permit for Marine Mammals

AGENCY: Fish and Wildlife Service, Interior.

ACTION: Notice of issuance of permit for marine mammals.

SUMMARY: The following permits were issued.

ADDRESSES: Documents and other information submitted for these applications are available for review by any party who submits a written request to the U.S. Fish and Wildlife Service, Division of Management Authority, 4401 North Fairfax Drive, Room 700, Arlington, Virginia 22203; fax (703) 358-2281.

FOR FURTHER INFORMATION CONTACT: Division of Management Authority, telephone 703/358-2104.

SUPPLEMENTARY INFORMATION: On May 30, 2002, a notice was published in the Federal Register (67 FR 37854), that an application had been filed with the Fish and Wildlife Service by Mike J. Goodart for a permit (PRT-056915) to import one polar bear (Ursus maritimus) taken from the Lancaster Sound population, Canada, for personal use.

Notice is hereby given that on July 31, 2002, as authorized by the provisions of the Marine Mammal Protection Act of 1972, as amended (16 U.S.C. 1361 et seq.) the Fish and Wildlife Service issued the requested permit subject to certain conditions set forth therein.

On May 30, 2002, a notice was published in the Federal Register (67 FR 37852), that an application had been filed with the Fish and Wildlife Service by Winston Stalcup for a permit (PRT-056309) to import one polar bear (Ursus maritimus) taken from the Northern Beaufort Sea population, Canada, for personal use.

Notice is hereby given that on August 6, 2002, as authorized by the provisions of the Marine Mammal Protection Act of 1972, as amended (16 U.S.C. 1361 et seq.) the Fish and Wildlife Service issued the requested permit subject to certain conditions set forth therein.

On May 30, 2002, a notice was published in the Federal Register (67 FR 37853), that an application had been filed with the Fish and Wildlife Service by David Hussey for a permit (PRT-056485) to import one polar bear (Ursus maritimus) taken from the Southern Beaufort Sea population, Canada, for personal use.

Notice is hereby given that on August 6, 2002, as authorized by the provisions of the Marine Mammal Protection Act of 1972, as amended (16 U.S.C. 1361 et seq.) the Fish and Wildlife Service issued the requested permit subject to certain conditions set forth therein.

On June 4, 2002, a notice was published in the Federal Register (67 FR 38516), that an application had been filed with the Fish and Wildlife Service by Lanny S. Rominger for a permit (PRT-057343) to import one polar bear (Ursus maritimus) taken from the Lancaster Sound population, Canada, for personal use.

Notice is hereby given that on August 6, 2002, as authorized by the provisions of the Marine Mammal Protection Act of 1972, as amended (16 U.S.C. 1361 et seq.) the Fish and Wildlife Service issued the requested permit subject to certain conditions set forth therein.

On June 25, 2002, a notice was published in the Federal Register (67 FR 42791), that an application had been filed with the Fish and Wildlife Service by Robert Talley for a permit (PRT-057708) to import one polar bear (Ursus maritimus) taken from the Lancaster Sound population, Canada, for personal use.

Notice is hereby given that on August 5, 2002, as authorized by the provisions of the Marine Mammal Protection Act of 1972, as amended (16 U.S.C. 1361 et seq.) the Fish and Wildlife Service issued the requested permit subject to certain conditions set forth therein.

On June 28, 2002, a notice was published in the Federal Register (67 FR 43676), that an application had been filed with the Fish and Wildlife Service by Remo Pizzagalli for a permit (PRT-058335) to import one polar bear (Ursus maritimus) taken from the Lancaster Sound population, Canada, for personal use.

Notice is hereby given that on August 6, 2002, as authorized by the provisions of the Marine Mammal Protection Act of 1972, as amended (16 U.S.C. 1361 et seq.) the Fish and Wildlife Service issued the requested permit subject to certain conditions set forth therein.

On July 9, 2002, a notice was published in the Federal Register (67 FR 45530), that an application had been filed with the Fish and Wildlife Service by the U.S. Fish and Wildlife Service, Marine Mammal Management Office, Anchorage, AK, to amend a permit (PRT-046081) to authorize the paint marking of individual polar bears (Ursus maritimus) for scientific research purposes.

Notice is hereby given that on August 8, 2002, as authorized by the provisions of the Marine Mammal Protection Act of 1972, as amended (16 U.S.C. 1361 et seq.) the Fish and Wildlife Service issued the requested permit subject to certain conditions set forth therein.

Dated: August 9, 2002.
Charles S. Hamilton,
Senior Permit Biologist, Branch of Permits, Division of Management Authority.

[FR Doc. 02-22903 Filed 9-9-02; 8:45 am]

BILLING CODE 4310-55-P